DEPARTMENT OF THE INTERIOR

National Park Service

Draft Environmental Impact Statement for the General Management Plan, Harpers Ferry National Historical Park, West Virginia, Maryland and Virginia

AGENCY: Department of the Interior, National Park Service.

ACTION: Notice of Availability of the Draft Environmental Impact Statement for the General Management Plan, Harpers Ferry National Historical Park.

SUMMARY: Pursuant to National Environmental Policy Act of 1969, 42 U.S.C. 4332(C), the National Park Service (NPS) announces the availability of a Draft Environmental Impact Statement for the General Management Plan, Harpers Ferry National Historical Park, West Virginia, Maryland and Virginia. The Draft Environmental Impact Statement for the General Management Plan analyzes the impacts of a no-action and two action alternatives. The official responsible for this decision is the NPS Regional Director, National Capital Region.

DATES: The NPS will undertake a 60-day public review of the Draft Environmental Impact Statement for the General Management Plan following publication by the Environmental Protection Agency of the Notice of Availability of the Draft Environmental Impact Statement.

ADDRESSES: Information will be available for public review in the office of the Superintendent, P.O. Box 65, Harpers Ferry, West Virginia 25425, by telephone at (304) 535-6748, and at the following locations: Office of the Chief of Planning, National Capital Region, National Park Service, 1100 Ohio Drive, SW., Washington, DC 20242, (202) 619-7277; Office of Public Affairs, National Park Service, Department of the Interior, 1849 C Street, NW., Washington, DC 20240, (202) 208-6843; and Bolivar Harpers Ferry Public Library, 152 Polk Street, Harpers Ferry, West Virginia 25425, (304) 535-2301. Copies of the document may also be accessed via internet connection to the park Web site at http://www.nps.gov/hafe or directly through the NPS PEPC (Planning, Environment, and Public Comment) Web site at http://www.parkplanning.nps.gov/parkHome.cfm?parkId=187.

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Marsha Wassel, Harpers Ferry, West Virginia at (304) 535-6748.

SUPPLEMENTARY INFORMATION: Alternative 1, the no-action alternative, describes the existing conditions and trends of park management and serves as a basis for comparison in evaluating the other alternatives.

Alternative 2, the NPS preferred alternative, was developed during the “Choosing By Advantages” process in which the planning team identifies and compares the relative advantages of each alternative according to a set of factors. This process also establishes the relationship between the advantages and costs of each alternative. This information is used to combine the best attributes of the preliminary alternatives into the preferred alternative giving the NPS the greatest overall benefit for the most reasonable cost.

Alternative 2 takes a traditional approach in which each location within the park is managed to reflect the most significant historic period or era associated with it. An enlarged contact station on Cavalier Heights would be developed. Management activities would focus on the preservation of the resources as well as the presentation of the interpretive themes appropriate to each location. Outlying portions of the park would be connected by an auto tour and round-the-park trail system. The existing transportation system would also be expanded to include more of the park. African-American history would be elevated in prominence on Camp Hill and NPS staff would work with partners to promote protection of and visitation to sites throughout the local area. A public/private partnership would be cultivated to rehabilitate and manage the historic Shipley School.

Alternative 3 would provide increased connections with private businesses and public/private organizations to help utilize, maintain and interpret historic structures while bringing additional life and excitement to Lower Town. A joint NPS/state tourism entrance complex would be developed. This alternative would provide enhanced visitor services ensuring visitor needs were met not only in the park but in the surrounding counties. Historic structures would be preserved and interpreted. Some structures would be leased to non-NPS entities to ensure upkeep and lessen the financial burden on the park. A new headquarters building would be developed somewhere in the Harpers Ferry vicinity. An enlarged transportation system would be operated in partnership with Main Street Harpers Ferry. A public/private partnership would be developed to rehabilitate and manage the historic Shipley School.

Dated: August 13, 2007.
Joseph M. Lawler,
Regional Director, National Capital Region.

[FR Doc. E7-17595 Filed 9-5-07; 8:45 am]

BILLING CODE 4312-JT-P